DEPARTMENT OF COMMERCE

[I.D. 122903D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Sea Scallop Exemption Requirements.

Form Number(s): None.

OMB Approval Number: 0648-0416.

Type of Request: Regular submission.

Burden Hours: 2,994.

Number of Respondents: 267.

Average Hours Per Response: 10 minutes for a daily observer report; 2 minutes for notifications 5 days before month of fishing or 5 days before leaving on a trip; and 5seconds for an automated VMS position report.

Needs and Uses: Sea scallop fishermen wishing to fish in exemption areas are subject to certain vessel monitoring system (VMS) and communication requirements. This submission requests extension of the currently approved collection for these scallop programs.

Affected Public: Business or other for-profit organizations; individuals or households; and not-for-profit institutions.

Frequency: On occasion, monthly, hourly, and daily.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov). Written comments and recommendations for the proposed information collection should be sent within 30 days of publication of this notice to David Rostker, OMB Desk Officer, FAX number 202-395-7285, or David_Rostker@omb.eop.gov.

Dated: December 23, 2003.
Gwellnar Banks,
Management Analyst, Office of the Chief Information Officer.

[FR Doc. 04-92 Filed 1-2-04; 8:45 am]

BILLING CODE 3510-22-S